DEPARTMENT OF THE INTERIOR

National Park Service

Final Environmental Impact Statement/General Management Plan Santa Monica Mountains National Recreation Area Ventura and Los Angeles Counties, CA; Notice of Approval of Record of Decision

SUMMARY: Pursuant to § 102(2)(C) of the National Environmental Policy Act of 1969 (Pub. L. 91-190, as amended) and the implementing regulations promulgated by the Council on Environmental Quality (40 CFR part 1505.2), the Department of the Interior, National Park Service has prepared, and the Regional Director, Pacific West Region has approved, the Record of Decision for the General Management Plan for Santa Monica Mountains National Recreation Area, in southern California. The formal no-action period was officially initiated January 31, 2003, with the U.S. Environmental Protection Agency's Federal Register notification of the filing of the Final Environmental Impact Statement (EIS).

Decision: As soon as practicable the NPS will begin to implement the General Management Plan described and analyzed as the Preferred Alternative contained in the Final EIS. The selected plan features a deliberate, long-term strategy to protect significant cultural and natural resources, while providing for compatible recreation (e.g., hiking, wildlife observation) and increased educational opportunities to a diverse public. This plan was also deemed to be the “environmentally preferred” alternative.

This course of action and four alternatives were identified and analyzed in the Final EIS, and previously in the Draft EIS (the latter was distributed in December 2000). The full spectrum of foreseeable environmental consequences was assessed, and appropriate mitigation measures identified, for each alternative. Beginning with early scoping, through the preparation of the Draft and Final EIS, numerous public meetings were conducted and newsletter updates (in english and spanish) were regularly produced. Approximately 600 written comments responding to the Draft EIS were received and duly considered. No substantive or adverse comments responding to the Final EIS were received during the no-action period which ended on March 3, 2003. Key consultations which aided in the preparation of the Draft and Final EIS involved (but were not limited to) the U.S. Fish and Wildlife Service, California Dept. of Fish and Game, State Historic Preservation Office, native American Tribes, Los Angeles and Ventura Counties, cities of Thousand Oaks, Malibu and Calabasas, and the Santa Monica Mountains Conservancy.

Copies: Interested parties desiring to review the Record of Decision may obtain a complete copy by contacting the Acting Superintendent, Santa Monica Mountains National Recreation Area, 401 West Hillcrest Dr., Thousand Oaks 91360-4223; or via telephone request at (805) 370-2300.

Jonathan B. Jarvis,
Regional Director, Pacific West Region.

[FR Doc. 03-10027 Filed 4-22-03; 8:45 am]

BILLING CODE 4310-70-P